ENVIRONMENTAL PROTECTION AGENCY

40 CFR Part 52

[EPA-R06-OAR-2023-0648; FRL-11992-02-R6]

Air Plan Approval; New Mexico; Periodic Emission Inventory SIP for Sunland Park Nonattainment Area for 2015 Ozone NAAQS

AGENCY: Environmental Protection Agency (EPA).

ACTION: Final rule.

SUMMARY: Pursuant to the Federal Clean Air Act (CAA or the Act), the Environmental Protection Agency (EPA) is approving State Implementation Plan (SIP) revisions related to the 2015 8-hour ozone National Ambient Air Quality Standards (NAAQS).

DATES: This rule is effective on November 12, 2024.

ADDRESSES: The EPA has established a docket for this action under Docket ID No. EPA-R06-OAR-2023-0648. All documents in the docket are listed on the https://www.regulations.gov website. Although listed in the index, some information is not publicly available, e.g., Confidential Business Information or other information whose disclosure is restricted by statute. Certain other material, such as copyrighted material, is not placed on the internet. Publicly available docket materials are available electronically through https://www.regulations.gov.

FOR FURTHER INFORMATION CONTACT: Ms. Nevine Salem, EPA Region 6 Office, Infrastructure and Ozone Section, 214-665-7222, salem.nevine@epa.gov. We encourage the public to submit comments via https://www.regulations.gov. Please call or email the contact listed above if you need alternative access to material indexed but not provided in the docket.

SUPPLEMENTARY INFORMATION: Throughout this document “we,” “us,” and “our” means the EPA.

I. Background

On July 3, 2024 (89 FR 55136), the EPA published a Notice of Proposed Rulemaking (NPRM) for the State of New Mexico. The NPRM proposed approval of the state's periodic emissions inventory for Sunland Park, Doña Ana County, New Mexico marginal nonattainment area for the 2015 NAAQS. The background for this action and rationale for EPA's proposed action are explained in the NPRM and will not be restated here. We received a comment on our proposal from the New Mexico Environmental Department (NMED). Our response to the comment follows.

II. Response to Comments

We received one comment from the NMED regarding an inadvertent typographical error in the NPRM—in tables 1 and 2 that summarized the NOX and VOC emissions in Sunland Park, Doña Ana County, New Mexico. The ozone season daily emissions (lb/day) column in the NPRM showed some discrepancies from what was submitted by the State. In response, the EPA is making the necessary corrections in the updated tables 1, and 2 listed below. The corrected values in fact are less than what was previously listed in tables 1 and 2 of the proposed action. This correction does not change or affect the total NOX or VOC emissions in the 2020 periodic emission inventory for Sunland Park marginal nonattainment area for a typical ozone season day. Additionally, the original tables were included in the State's SIP revision submittal,¹ in the rulemaking docket.

¹ A copy of the SIP revision is available online at www.regulations.gov, Docket number EPA-R06-OAR-2023-0648.

Table 1—NOX Emissions Sunland Park, Doña Ana County, New Mexico
Source category | Doña Ana County emissions (tpy) | Sunland Park, NM nonattainment emissions (tpy) | Sunland Park, NM nonattainment area ozone season daily emissions (lb/day)
Point | 1,155.22 | 740.60 | 4,046.97
Nonpoint Area | 1,588.62 | 42.01 | 215.22
Onroad | 3,590.66 | 111.04 | 603.13
Nonroad | 430.87 | 10.49 | 58.42
Total | 6,765.37 | 904.14 | 4,923.74

Table 2—VOC Emissions Sunland Park, Doña Ana County, New Mexico
Source category | Doña Ana County emissions (tpy) | Sunland Park, NM nonattainment area emissions (tpy) | Sunland Park, NM nonattainment area ozone season daily emissions (lb/day)
Point | 114.84 | 41.78 | 228.32
Nonpoint Area | 10,933.55 | 134.11 | 552.64
Onroad | 1,206.00 | 25.41 | 138.49
Nonroad | 311.27 | 7.92 | 50.36
Total | 12,565.66 | 209.23 | 969.82

NMED had another remark stating that no public hearing was conducted for this rulemaking. EPA confirms that in section III of the proposal, we stated that “New Mexico notified the public in both English and Spanish and offered the opportunity for comment and public hearing. A full record of public notices is included in the state's submittal. New Mexico did not receive any comments during the 30-day public comment period or request for public hearing”.

III. Final Action

We are approving the New Mexico SIP revisions submitted on December 20, 2023, to address the periodic ozone season daily and annual ozone precursor emission inventories for NOX and VOC for the Sunland Park, Doña Ana County, New Mexico, nonattainment area for the 2015 ozone NAAQS.

IV. Environmental Justice Considerations

The EPA reviewed demographic data, which provides an assessment of individual demographic groups of the populations living within the approximate 13.86 square miles contained in the portion of the ozone nonattainment area within Sunland Park, New Mexico. The complete report is available in the public docket for this action. The Environmental Justice Index for eight of the twelve EJScreen indicators exceed the 80th percentile in the United States; seven of the twelve EJScreen indicators exceed the 80th percentile in the State of New Mexico. Five of the twelve indicators exceed the 90th percentile in both the State of New Mexico and the United States, including indices for particulate matter 2.5, ozone, air toxics cancer risk, air toxics respiratory, and wastewater discharge. This analysis showed an approximate population of 17,408 residents based on the 2017-2021 Census. Within this area, EJScreen identified that approximately 95% of the population are people of color with 58% identified as low income. Additionally, approximately 34% of the population is linguistically isolated and 30% of the population has less than a high school education.

This action is to approve the periodic emission inventory for Sunland Park 2015 ozone nonattainment area, in which updated air emissions data in the National Emissions Inventory (NEI) is available on EPA public web page. This action is not anticipated to have a disproportionately high or adverse human health or environmental effects on communities with environmental justice concerns.

V. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

Executive Order 12898 (Federal Actions To Address Environmental Justice in Minority Populations and Low-Income Populations, 59 FR 7629, Feb. 16, 1994) directs Federal agencies to identify and address “disproportionately high and adverse human health or environmental effects” of their actions on communities with environmental justice (EJ) concerns to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The New Mexico Environmental Department did not evaluate environmental justice considerations as part of its SIP revision submittal; the CAA and applicable implementing regulations neither prohibit nor require such an evaluation. EPA performed an environmental justice analysis, as is described above in the section titled, “Environmental Justice Considerations.” The analysis was done for the purpose of providing additional context and information about this rulemaking to the public, not as a basis of the action. Due to the nature of the action being taken here, this action is expected to have a neutral to positive impact on the air quality of the affected area. Consideration of EJ is not required as part of this action, and there is no information in the record inconsistent with the stated goal of E.O. 12898 of achieving environmental justice for communities with EJ concerns.

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by December 10, 2024. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: October 3, 2024.
Earthea Nance,
Regional Administrator, Region 6.

For the reasons stated in the preamble, the Environmental Protection Agency amends 40 CFR part 52 as follows:

PART 52—APPROVAL AND PROMULGATION OF IMPLEMENTATION PLANS

1. The authority citation for part 52 continues to read as follows:

Authority: 42 U.S.C. 7401 et seq.

Subpart GG—New Mexico

2. In § 52.1620 (e), the table titled “EPA-Approved Nonregulatory Provisions and Quasi-Regulatory Measures in the New Mexico SIP” is amended by adding the entry “2020 Periodic Emissions Inventory (NOX and VOC ozone daily summer season and annual emissions) for the 2015 Ozone NAAQS” at the end of the table to read as follows:

§ 52.1620 Identification of plan.

* * * * *

(e) * * *

EPA-Approved Nonregulatory Provisions and Quasi-Regulatory Measures in the New Mexico SIP
Name of SIP provision | Applicable geographic or nonattainment area | State submittal/ effective date | EPA approval date | Explanation
* * * * * * *
2020 Periodic Emissions Inventory (NOX and VOC ozone daily summer season and annual emissions) for the 2015 Ozone NAAQS | Sunland Park ozone nonattainment area | 12/20/2023 | 10/11/2024, [Insert Federal Register citation] |

* * * * *

[FR Doc. 2024-23339 Filed 10-10-24; 8:45 am]

BILLING CODE 6560-50-P